DEPARTMENT OF ENERGY

Biological and Environmental Research Advisory Committee

AGENCY: Office of Science, Department of Energy.

ACTION: Notice of open meeting.

SUMMARY: This notice announces a virtual meeting of the Biological and Environmental Research Advisory Committee (BERAC). The Federal Advisory Committee Act requires that public notice of these meetings be announced in the Federal Register.

DATES: Thursday, October 19, 2023; 11:00 a.m.-5: 00 p.m. EST, Friday, October 20, 2023; 11:00 a.m.-5:00 p.m. EST.

ADDRESSES: Public attendance for this meeting will be virtual via webcast using Zoom. Instructions for Zoom, as well as any updates to meeting times or meeting agenda, can be found on the BERAC meeting website at: https://science.osti.gov/ber/berac/Meetings.

FOR FURTHER INFORMATION CONTACT: Dr. Tristram West, Designated Federal Officer, U.S. Department of Energy, Office of Science, Office of Biological and Environmental Research, BER/Germantown Building, 1000 Independence Avenue SW, Washington, DC 20585-1290. Phone (301) 903-5155; fax (301) 903-5051 or email: tristram.west@science.doe.gov.

SUPPLEMENTARY INFORMATION:

Purpose of the Committee: To provide advice on a continuing basis to the Director, Office of Science of the Department of Energy, on the many complex scientific and technical issues that arise in the development and implementation of the Biological and Environmental Research Program.

Tentative Agenda:

• News from the Office of Biological and Environmental Research

• News from the Biological Systems Science and Earth and Environmental Systems Sciences Divisions

• Update from the BERAC Subcommittee on Unified Data

• Update from the BERAC Subcommittee on Low Dose Radiation

• Briefings from Programs or recent Workshops

• BERAC business and discussion

• Public comment

Public Participation: The two-day meeting is open to the public. If you would like to file a written statement with the Committee, you may do so either before or after the meeting. If you would like to make oral statements regarding any of the items on the agenda, please send an email request to both Tristram West at tristram.west@science.doe.gov and Andrew Flatness at andrew.flatness@science.doe.gov. You must make your request for an oral statement at least five business days before the meeting. Reasonable provisions will be made to include the scheduled oral statements on the agenda. The Chairperson of the Committee will conduct the meeting to facilitate the orderly conduct of business. Public comments will be limited to five minutes each.

Minutes: The minutes of this meeting will be available for public review and copying within 45 days at the BERAC website: https://science.osti.gov/ber/berac/Meetings/BERAC-Minutes.

Signed in Washington, DC, on September 25, 2023.
LaTanya Butler,
Deputy Committee Management Officer.

[FR Doc. 2023-21238 Filed 9-27-23; 8:45 am]

BILLING CODE 6450-01-P